DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

Proposed Project: Web-Based Semi Annual Report (SAR) (OMB No. 0915-0262): Revision

The Health Resources and Services Administration (HRSA), Bureau of Primary Health Care (BPHC), plans to collect the annual reporting requirements for the primary care grantees funded by BPHC using the web-based Semi Annual Report (SAR). The SAR includes reporting requirements for grantees of the following primary care programs: State Primary Care Associations and State Primary Care Offices. Authorizing legislation is found in Section 330(m) of the Public Health Service Act, as amended.

BPHC collects data on its programs to ensure compliance with legislative mandates and to report to Congress and policy makers on program accomplishments. To meet these objectives, BPHC requires a core set of information collected semi-annually that is appropriate for monitoring and evaluating performance and reporting on annual trends. The SAR has been a valuable instrument for collecting this information from grantees. The SAR provides data on services, characteristics of populations, leveraged funds, and services that fall within the scope of the grant.

The estimated burden is a follows:

Form | Number of respondents | Responses per respondent | Hours per response | Total burden hours
SAR | 106 | 2 | 18 | 3816

Written comments and recommendations concerning the proposed information collection should be sent within 30 days of this notice to: John Morrall, Human Resources and Housing Branch, Office of Management and Budget, New Executive Office Building, Room 10235, Washington, DC 20503.

Dated: October 16, 2003.
Jane M. Harrison,
Director, Division of Policy Review and Coordination.

[FR Doc. 03-27122 Filed 10-27-03; 8:45 am]

BILLING CODE 4165-15-P